DEPARTMENT OF HEALTH AND HUMAN SERVICES

Office of the Secretary

Renewal of Charters for Certain Federal Advisory Committees

AGENCY: Office of the Secretary, Department of Health and Human Services.

ACTION: Notice.

SUMMARY: As stipulated by the Federal Advisory Committee Act, as amended (5 U.S.C. App), the U.S. Department of Health and Human Services is hereby announcing that the charters have been renewed for the following federal advisory committees for which the National Institutes of Health provides management support: National Toxicology Program Board of Scientific Counselors (NTPBSC) and National Toxicology Program Special Emphasis Panel (NTPSEP). Functioning as federal advisory committees, these committees are governed by the provisions of the Federal Advisory Committee Act (FACA). Under FACA, the charter for a federal advisory committee must be renewed every two years in order for the committee to continue to operate.

FOR FURTHER INFORMATION CONTACT: Jennifer Spaeth, Director, Office of Federal Advisory Committee Policy, Office of the Director, National Institutes of Health, 6701 Democracy Boulevard, Suite 1000, Bethesda, Maryland 20892 (Mail code 4875). Telephone (301) 496-2123, or spaethj@od.nih.gov.

SUPPLEMENTARY INFORMATION: In 1978 the Secretary of Health and Human Services established the National Toxicology Program (NTP) to coordinate toxicological testing programs within the Department, strengthen the science base in toxicology, develop and validate improved testing methods, and provide information about potentially toxic agents to health regulatory and research agencies, medical and scientific communities, and the public. The NTP is an interagency program that provides information that improves the nation's ability to evaluate potential human health effects from chemical or physical exposures. The NTP plays a critical role in providing needed scientific data, interpretations, and guidance on the appropriate uses of data to regulatory agencies and other groups involved in health-related research and in providing information to regulatory agencies about alternative methods for toxicity screening.

The results of NTP's long-term, generally two-year, toxicology and carcinogenicity studies, are published as NTP Technical Reports. The NTP uses established criteria to evaluate the findings and determine the strength of the evidence for conclusions regarding the carcinogenic activity of each substance evaluated. Panels are technical, scientific advisory bodies established to provide independent scientific peer review of the draft NTP Technical Reports.

Copies of the charters for the designated committees can be obtained by accessing the FACA data base that is maintained by the Committee Management Secretariat under the General Services Administration.

Dated: January 29, 2015.
Carolyn A. Baum,
Program Analyst, Office of Federal Advisory Committee Policy.

[FR Doc. 2015-02097 Filed 2-3-15; 8:45 am]

BILLING CODE 4140-01-P